DEPARTMENT OF JUSTICE

Notice of Lodging of a Consent Decree Pursuant to the Comprehensive Environmental Response, Compensation, and Liability Act, the Clean Water Act, and the Park System Resources Protection Act

Notice is hereby given that a proposed Consent Decree in United States of America v. Washington Golf and Country Club, Case No. 1:05cv1112 (JCC/LO), was lodged on September 26, 2005, with the United States District Court for the Eastern District of Virginia (Alexandria Division).

In the complaint filed in this matter, the United States alleges claims for natural resource damages under Section 107(a) of the Comprehensive Environmental Response, Compensation, and Liability Act (“CERCLA”), 42 U.S.C. 9607(a)(4)(C), and Section 311(b)(3), (f)(2), (f)(4), and (f)(5) of the Clean Water Act (“CWA”), 33 U.S.C. 1321(b)(3), (f)(2), (f)(4), and (f)(5), and for damages to park system resources under the Park System Resources Protection Act (“PSRPA”), 16 U.S.C. 19jj-1(a), against Washington Golf and Country Club (“WGCC”), a private golf club located in Arlington, Virginia, arising from a release of hazardous substances from WGCC's property on August 23-24, 2001. The proposed Consent Decree would resolve the United States' claims set forth in the complaint through WGCC's performance of specific stream habitat enhancement activities and payment of $145,000 in reimbursement of the United States' costs, payment for lost use of resources, and payment of projected future monitoring costs.

The Department of Justice will receive comments relating to the proposed Consent Decree for a period of thirty (30) days from the date of this publication. Comments should be addressed to the Acting Assistant Attorney General, Environment and Natural Resources Division, P.O. Box 7611, U.S. Department of Justice, Washington, DC 20044, and should refer to United States v. Washington Golf and Country Club, DJ No. 90-11-2-08028.

The proposed Consent Decree may be examined at the office of the United States Attorney for the Eastern District of Virginia, 2100 Jamieson Avenue, Alexandria, VA, 22314, and at the United States Department of the Interior, Office of the Solicitor, 1829 C Street, NW., Washington, DC 20240. During the public comment period, the decree may also be examined on the following Department of Justice Web site, http://www.usdoj.gov/enrd/open.html. A copy of the decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $10.25 (25 cents per page reproduction cost) payable to the U.S. Treasury. The check should refer to United States v. Washington Golf and Country Club, DJ No. 90-11-2-08028.

Robert D. Brook,
Assistant Section Chief, Environmental Enforcement Section, Environment and Natural Resources Division.

[FR Doc. 05-20039 Filed 10-5-05; 8:45 am]

BILLING CODE 4410-15-M